ENVIRONMENTAL PROTECTION AGENCY

40 CFR Part 62

[FRL-7052-8]

Approval and Promulgation of State Plans for Designated Facilities and Pollutants; States of Iowa, Kansas, Missouri, and Nebraska

AGENCY: Environmental Protection Agency (EPA).

ACTION: Proposed action.

SUMMARY: EPA proposes to approve the small Municipal Waste Combustion (MWC) units section 111(d) plan negative declarations submitted by the states of Iowa, Kansas, Missouri, and Nebraska. These negative declarations certify that small MWC units subject to the requirements of sections 111(d) and 129 of the Clean Air Act do not exist in these states.

In the final rules section of the Federal Register, EPA is approving each state's negative declaration as a direct final rule without prior proposal because the Agency views this as noncontroversial and anticipates no relevant adverse comments to this action. A detailed rationale for the approval is set forth in the direct final rule. If no relevant adverse comments are received in response to this action, no further activity is contemplated in relation to this action. If EPA receives relevant adverse comments, the direct final rule will be withdrawn and all public comments received will be addressed in a subsequent final rule based on this proposed action. EPA will not institute a second comment period on this action. Any parties interested in commenting on this action should do so at this time.

DATES: Comments on this proposed action must be received in writing by October 10, 2001.

ADDRESSES: Comments may be mailed to Wayne Kaiser, Environmental Protection Agency, Air Planning and Development Branch, 901 North 5th Street, Kansas City, Kansas 66101.

FOR FURTHER INFORMATION CONTACT: Wayne Kaiser at (913) 551-7603.

SUPPLEMENTARY INFORMATION: See the information provided in the direct final rule which is located in the rules section of the Federal Register.

Dated: August 30, 2001.
William W. Rice,
Acting Regional Administrator, Region 7.

[FR Doc. 01-22621 Filed 9-7-01; 8:45 am]

BILLING CODE 6560-50-U